DEPARTMENT OF TRANSPORTATION

Surface Transportation Board

[STB Finance Docket No. 34284]

Southwest Gulf Railroad Company—Construction and Operation Exemption—in Medina County, TX

AGENCY: Surface Transportation Board, DOT.

ACTION: Notice of Correction to the Federal Register Notice Announcing the Availability of a Final Environmental Impact Statement (EIS).

SUMMARY: The Section of Environmental Analysis (SEA) issued the Final EIS in the above-captioned proceeding on May 30, 2008, and published a notice of availability of the Final EIS in the Federal Register on the same day. It has come to our attention that a statement on page 2 of the notice of availability is incorrect.

Therefore, we will strike this language:

Parties who wish to file an administrative appeal of the Board's final decision may do so in writing within 30 days from the publication of the notice of the FEIS. * * * [T]he deadline for filing administrative appeals will be July 7, 2008.

And replace it with:

Parties who wish to file an administrative appeal of the Board's final decision may do so in writing within 20 days of the service date of the Board's final decision.

Please correct your copies accordingly.

By the Board, Victoria Rutson, Chief, Section of Environmental Analysis.
Decided: June 3, 2008.
Anne K. Quinlan,
Acting Secretary.

[FR Doc. E8-12668 Filed 6-5-08; 8:45 am]

BILLING CODE 4915-01-P